DEPARTMENT OF TRANSPORTATION

Federal Aviation Administration

14 CFR Part 71

[Docket No. FAA-2022-0764; Airspace Docket No. 21-ANM-37]

RIN 2120-AA66

Proposed Amendment of Class D and Class E Airspace; Bozeman Yellowstone International Airport, MT

AGENCY: Federal Aviation Administration (FAA), Department of Transportation (DOT).

ACTION: Notice of proposed rulemaking (NPRM).

SUMMARY: This action proposes to modify the Class D and E surface areas, the Class E airspace area designated as an extension to a Class D or Class E surface area, and the Class E airspace extending upward from 700 feet above the surface at Bozeman Yellowstone International Airport, MT. Additionally, this action proposes several administrative amendments to update the airport's legal descriptions. These actions will ensure the safety and management of instrument flight rules (IFR) and visual flight rules (VFR) operations at the airport.

DATES: Comments must be received on or before September 12, 2022.

ADDRESSES: Send comments on this proposal to the U.S. Department of Transportation, Docket Operations, 1200 New Jersey Avenue SE, West Building Ground Floor, Room W12-140, Washington, DC 20590; telephone: 1-800-647-5527, or (202) 366-9826. You must identify FAA Docket No. FAA-2022-0764; Airspace Docket No. 21-ANM-37, at the beginning of your comments. You may also submit comments through the internet at www.regulations.gov.

FAA Order JO 7400.11F, Airspace Designations and Reporting Points, and subsequent amendments can be viewed online at www.faa.gov/air_traffic/publications. For further information, you can contact the Airspace Policy Group, Federal Aviation Administration, 800 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would modify Class D and Class E airspace at Bozeman Yellowstone International Airport, MT, to support IFR and VFR operations at the airport.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Persons wishing the FAA to acknowledge receipt of their comments on this notice must submit with those comments a self-addressed, stamped postcard on which the following statement is made: “Comments to Docket No. FAA-2022-0764; Airspace Docket No. 21-ANM-37.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the internet at www.regulations.gov. Recently published rulemaking documents can also be accessed through the FAA's web page at www.faa.gov/air_traffic/publications/airspace_amendments.

You may review the public docket containing the proposal, any comments received, and any final disposition in person in the Dockets Office (see the ADDRESSES section for the address and phone number) between 9:00 a.m. and 5:00 p.m., Monday through Friday, except federal holidays. An informal docket may also be examined during normal business hours at the Northwest Mountain Regional Office of the Federal Aviation Administration, Air Traffic Organization, Western Service Center, Operations Support Group, 2200 S 216th Street, Des Moines, WA 98198.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Proposal

The FAA is proposing an amendment to 14 CFR part 71 by modifying Class D and Class E surface areas, the Class E airspace area designated as an extension to a Class D or Class E surface area, the Class E airspace extending upward from 700 feet above the surface, and the Class E airspace designated as en route domestic airspace area at Bozeman Yellowstone International Airport, MT.

Class D airspace is intended to contain IFR arrival operations while between the surface and 1,000 feet above the surface, and IFR departure operations while between the surface and the base of adjacent controlled airspace. The current Class D airspace radius is 5.4 miles, which is excessive. This radius should be reduced to 4.9 miles, as additional airspace is not necessary. The Class D airspace should be expanded to the southeast of the airport due to rising terrain, as it's needed to contain departures until reaching 700 feet above the surface.

The Class E surface airspace should be amended to be coincident with the Bozeman Yellowstone International Airport's Class D airspace legal description.

The Class E airspace area designated as an extension to a Class D or Class E surface area should be removed southwest of the airport, as it is no longer needed. The Class E airspace area designated as an extension to a Class D or Class E surface area northwest of the airport should be modified to more appropriately contain arrivals on the ILS/LOC RWY 12 approach.

The Class E airspace extending upward from 700 feet above the surface around Bozeman Yellowstone International Airport should be reduced from a 13.5-mile radius to a 6.9-mile radius around the airport, as additional airspace is not necessary to contain IFR departures flying toward or over rising terrain. The Class E airspace extending upward from 700 feet above the surface northwest of the airport should be reduced, as the existing airspace is excessive and not necessary. Class E airspace extending upward from 700 feet above the surface should be extended southeast of the airport to contain IFR departures until reaching 1,200 feet above the surface, and IFR arrivals descending below 1,500 feet above the surface.

Finally, the FAA proposes several administrative modifications to the airport's legal descriptions. The Bozeman Yellowstone International Airport geographic coordinates in the Class D and Class E legal descriptions should be updated to match the FAA's database. The Class D and Class E2 legal descriptions should also be updated to replace the outdated use of the phrases “Notice to Airmen,” and “Airport/Facility Directory.” These phrases should be amended to read “Notice to Air Missions” and “Chart Supplement,” respectively, to align with the FAA's current nomenclature.

Class D, E2, E4, E5, and E6 airspace designations are published in paragraphs 5000, 6002, 6004, 6005, and 6006, respectively, of FAA Order JO 7400.11F, dated August 10, 2021, and effective September 15, 2021, which is incorporated by reference in 14 CFR 71.1. The Class D and Class E airspace designations listed in this document will be published subsequently in FAA Order JO 7400.11.

FAA Order JO 7400.11, Airspace Designations and Reporting Points, is published yearly and effective on September 15.

Regulatory Notices and Analyses

The FAA has determined that this regulation only involves an established body of technical regulations for which frequent and routine amendments are necessary to keep them operationally current, is non-controversial, and unlikely to result in adverse or negative comments. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

ANM MT D Bozeman, MT [Amended]

Bozeman Yellowstone International Airport, MT

(Lat. 45°46′38″ N, long. 111°09′01″ W)

That airspace extending upward from the surface to and including 7,000 feet MSL within a 4.9-mile radius of Bozeman Yellowstone International Airport, and within 2.0 miles each side of the 146° bearing from the airport extending from the 4.9-mile radius of the airport to 6.5 miles southeast of the airport. This Class D airspace area is effective during the specific dates and times established in advance by a Notice to Air Missions. The effective date and time will thereafter be continuously published in the Chart Supplement.

Paragraph 6002 Class E Airspace Areas Designated as a Surface Area.

* * * * *

ANM MT E2 Bozeman, MT [Amended]

Bozeman Yellowstone International Airport, MT

(Lat. 45°46′38″ N, long. 111°09′01″ W)

That airspace extending upward from the surface within a 4.9-mile radius of Bozeman Yellowstone International Airport, and within 2.0 miles each side of the 146° bearing from the airport extending from the 4.9-mile radius of the airport to 6.5 miles southeast of the airport. This Class D airspace area is effective during the specific dates and times established in advance by a Notice to Air Missions. The effective date and time will thereafter be continuously published in the Chart Supplement.

Paragraph 6004 Class E Airspace Areas Designated as an Extension to a Class D or Class E.

* * * * *

ANM MT E4 Bozeman, MT [Amended]

Bozeman Yellowstone International Airport, MT

(Lat. 45°46′38″ N, long. 111°09′01″ W)

That airspace extending upward from the surface within 3.4 miles each side of the 316° bearing from the Bozeman Yellowstone International Airport extending from the 4.9- mile radius of the airport to 13.5 miles northwest of the airport.

Paragraph 6005 Class E Airspace Areas Extending Upward From 700 Feet or More Above the Surface of the Earth.

* * * * *

ANM MT E5 Bozeman, MT [Amended]

Bozeman Yellowstone International Airport, MT

(Lat. 45°46′38″ N, long. 111°09′01″ W)

That airspace extending upward from 700 feet above the surface within a 6.9-mile radius from the Bozeman Yellowstone International Airport, and within 1.8 miles each side of the 131° bearing from the airport extending from the 6.9-mile radius to 14.3 miles southeast of the airport, and within 2.7 miles northeast and 2.9 miles southwest of the 155° bearing from the airport extending from the 6.9-mile radius to 10.6 miles southeast of the airport, and within 3.6 miles each side of the 316° bearing from the airport extending from the 6.9-mile radius to 15.5 miles northwest of the airport.

Paragraph 6006 En Route Domestic Airspace Areas.

* * * * *

ANM MT E6 Bozeman, MT [Amended]

Bozeman Yellowstone International Airport, MT

(Lat. 45°46′38″ N, long. 111°09′01″ W)

That airspace extending upward from 1,200 feet above the surface within a 50-mile radius of the Bozeman Yellowstone International Airport, excluding existing lateral limits of controlled airspace 12,000 feet MSL and above.

Issued in Des Moines, Washington, on July 19, 2022.
B.G. Chew,
Acting Group Manager, Operations Support Group, Western Service Center.

[FR Doc. 2022-16221 Filed 7-28-22; 8:45 am]

BILLING CODE 4910-13-P